DEPARTMENT OF THE INTERIOR

Bureau of Land Management

[WO-320-1330-PE-24 1A]

Extension of Approved Information Collection, OMB Approval Number 1004-0103; Correction

AGENCY: Bureau of Land Management, Interior.

ACTION: Notice; correction.

SUMMARY: The Bureau of Land Management (BLM) published a document in the Federal Register of March 27, 2008, requesting revision of a currently approved information collection and public comment on this information collection. The document contained an incorrect subject heading and an incorrect telephone number.

FOR FURTHER INFORMATION CONTACT: Alexandra Ritchie, 202-452-0388.

Corrections

In the Federal Register of March 27, 2008 [73 FR 16321], in the first column, correct the subject heading to read:

Revision of Currently Approved Collection; OMB Approval Number 1004-0103

In the Federal Register of March 27, 2008, [73 FR 16321], in the second column, correct the FOR FURTHER INFORMATION CONTACT telephone number for George Brown to read:

(202) 452-7765 (Commercial or FTS).

DATES: The correction is effective April 4, 2008.

Dated: March 31, 2008.
Alexandra Ritchie,
Bureau of Land Management, Information Collection Clearance Officer.

[FR Doc. E8-6957 Filed 4-3-08; 8:45 am]

BILLING CODE 4310-84-P